DEPARTMENT OF THE INTERIOR

Bureau of Land Management

[CO-923; COC-68632]

Notice of Proposed Withdrawal; Scheduled Public Meeting; Colorado

AGENCY: Bureau of Land Management, Interior.

ACTION: Notice.

SUMMARY: The Secretary of Agriculture has filed an application requesting the Secretary of the Interior to withdraw approximately 14,919 acres of National Forest System lands in Douglas, Teller, Park, and Jefferson Counties, Colorado. This notice segregates the lands from location and entry under the U.S. Mining Laws for up to 2 years. This notice also establishes the time and place of the public meeting.

DATES: Comments on this proposed action must be received on or before January 26, 2006.

The public meeting will be held at 7 p.m. on December 15, 2005 at the USDA Forest Service Workcenter, State Highway 126, Buffalo Creek, Colorado 80425.

Requests to be heard at the public meeting should be received by close of business on December 8, 2005.

ADDRESSES: Comments and/or requests to be heard should be submitted to the State Director, Colorado State Office, Bureau of Land Management (BLM), 2850 Youngfield Street, Lakewood, Colorado 80215, or David Crumley, USDA, Forest Service, 2040 Kachina Drive, Pueblo, Colorado 81008.

FOR FURTHER INFORMATION CONTACT: Doris E. Chelius, BLM, 303-239-3706, in Denver, or David Crumley, USDA Forest Service, 719-553-1591 in Pueblo.

SUPPLEMENTARY INFORMATION: The United States Department of Agriculture, acting through the Forest Service, filed an application with the Bureau of Land Management to withdraw the following identified lands from location and entry under the mining laws, subject to valid existing rights. The outer limit of the area requested is a line drawn in such a manner that each point of it is ¼-mile (U.S. Foot) each side from the middle of the main channels of the South Platte and the North Fork of the South Platte Rivers comprising a ½-mile wide corridor aggregating a length of approximately 71.4 miles. The lands proposed to be withdrawn are described in the following three segments:

Sixth Principal Meridian

Pike—San Isabel National Forest

Segment 1: Elevenmile Canyon Reservoir to Cheesman Lake

Beginning at a point on the South Platte River at the outlet in the Elevenmile Reservoir Dam in sec. 20, T. 13 S., R. 72 W., thence northeasterly along the middle of the main channel of the South Platte River approximately 25.9 miles, ending at a point where the South Platte River exits the east boundary of sec. 22. T. 10 S., R. 71 W.

Segment 2: Cheesman Dam to the High Water Line of the Strontia Springs Reservoir

Beginning on the South Platte River from the stream gage below Cheesman Dam in sec. 6, T. 10 S., R. 70 W., thence northeasterly along the middle of the main channel of the South Platte River approximately 22.6 miles, ending at the high water line of the Strontia Springs Reservoir, in sec. 30, T. 7 S., R. 69 W.

Segment 3: North Fork South Platte River

Beginning on the North Fork of the South Platte River from Insmont (upper end of Berger property) in the NW¼SE¼ of sec. 33, T. 7 S., R. 72 W., thence easterly along the middle of the main channel of the North Fork of the South Platte River approximately 22.9 miles to the confluence with the main stem of the South Platte River in sec. 25, T. 7 S., R. 69 W.

Excepting nonfederal owned surface and mineral estate, and subject to valid existing rights, the provisions of existing withdrawals, and other segregations of record. A land list describing by Township, Range and Section, the Federal lands and interests crossed by the above-described segments and subject to this Notice of Proposed Withdrawal is available from the BLM at the address listed above.

The areas described aggregate approximately 14,919.26 acres in Jefferson, Teller, Park, and Douglas Counties.

The purpose of this proposed withdrawal is to protect important wild and scenic values which have been determined to meet the requirements for inclusion in the National Wild and Scenic Rivers System.

As proposed, the withdrawal would be for a period of 20 years or until Congress determines these segments should or should not be included in the Wild and Scenic Rivers System.

The use of a right-of-way or cooperative agreement instead of a withdrawal would not provide adequate protection for this area due to the broad scope and nondiscretionary nature of the general mining laws.

There are no alternative sites because the area of interest is determined by the location of the rivers.

Water will not be needed to fulfill the purpose of the requested withdrawal.

For a period of 90 days from the date of publication of this notice, all persons who wish to submit comments, suggestions, or objections in connection with this proposal may present their views in writing to the Colorado State Director, BLM, or David Crumley, USDA Forest Service, at the above addresses. However, those persons desiring to be heard at the public meeting must submit their requests by December 8, 2005. A list of scheduled speakers will be established. Unscheduled speakers will be heard if time allows.

Comments, including names and street addresses of respondents, and records relating to the proposed withdrawal will be available for public review at the BLM Colorado State Office in Lakewood and the USDA Forest Service Office in Pueblo during regular business hours.

Individual respondents may request confidentiality. If you wish to withhold your name or address from public review or from disclosure under the Freedom of Information Act, you must state this prominently at the beginning of your comments. Such requests will be honored to the extent allowed by law. All submissions from organizations or businesses and from representatives or officials of organizations or businesses, will be made available for public inspection in their entirety.

The application will be processed in accordance with the regulations set forth in 43 CFR 2300.

For a period of 2 years from the date of publication of this notice in the Federal Register, the above described lands will be segregated from location and entry under the mining laws as specified above unless the application is denied or cancelled, or the withdrawal is approved, prior to that date. During this period, the lands will continue to be managed by the USDA Forest Service.

(Authority: 43 CFR 2310.3-1)

Dated: October 7, 2005.
John D. Beck,
Acting Chief, Branch of Lands and Realty.

[FR Doc. 05-21570 Filed 10-27-05; 8:45 am]

BILLING CODE 3410-11-P